DEPARTMENT OF COMMERCE

International Trade Administration

[A-570-178, C-570-179]

Certain Tungsten Shot From the People's Republic of China: Antidumping Duty and Countervailing Duty Orders

AGENCY: Enforcement and Compliance, International Trade Administration, Department of Commerce.

SUMMARY: Based on affirmative final determinations by the U.S. Department of Commerce (Commerce) and the U.S. International Trade Commission (ITC), Commerce is issuing antidumping duty (AD) and countervailing duty (CVD) orders on certain tungsten shot (tungsten shot) from the People's Republic of China (China).

DATES: Applicable August 27, 2025.

FOR FURTHER INFORMATION CONTACT: Caroline Carroll (AD) or Samuel Evans (CVD), AD/CVD Operations, Office IX, Enforcement and Compliance, International Trade Administration, U.S. Department of Commerce, 1401 Constitution Avenue NW, Washington, DC 20230; telephone: (202) 482-4948 or (202) 482-2420, respectively.

SUPPLEMENTARY INFORMATION:

Background

In accordance with section 705(d) of the Tariff Act of 1930, as amended (the Act), on July 11, 2025, Commerce published its affirmative final determination that countervailable subsidies are being provided to producers and exporters of tungsten shot from China.¹ Also on July 11, 2025, pursuant to sections 735(a), 735(d), and 777(i)(1) of the Act, and 19 CFR 351.210(c), Commerce published its affirmative final determination of sales at less than fair value (LTFV) of tungsten shot from China.²

¹ See Certain Tungsten Shot from the People's Republic of China: Final Affirmative Countervailing Duty Determination, 90 FR 30869 (July 11, 2025) (CVD Final Determination), and accompanying Issues and Decision Memorandum (IDM).

² See Certain Tungsten Shot from the People's Republic of China: Final Affirmative Determination of Sales at Less Than Fair Value, 90 FR 30849 (July 11, 2025), and accompanying IDM.

On August 20, 2025, the ITC notified Commerce of its final affirmative determinations that an industry in the United States is materially retarded within the meanings of sections 705(b)(1)(B) and 735(b)(1)(B) of the Act by reason of subsidized imports of tungsten shot from China and by reason of imports of tungsten shot from China that are sold in the United States at LTFV.³

³ See ITC's Letter, “Notification of ITC Final Determinations,” dated August 20, 2025 (ITC Notification Letter).

Scope of the Orders

The products covered by these orders are tungsten shot from China. For a complete description of the scope of the orders, see the appendix to this notice.

AD Order

On August 20, 2025, in accordance with section 735(d) of the Act, the ITC notified Commerce of its final determination that the establishment of an industry in the United States is materially retarded within the meaning of section 735(b)(1)(B) of the Act by reason of imports of tungsten shot from China that are sold in the United States at LTFV.⁴ Therefore, in accordance with sections 735(c)(2) and 736 of the Act, Commerce is issuing this AD order.

⁴ Id.

Because the ITC determined that imports of tungsten shot from China are materially retarding the establishment of the U.S. industry, section 736(b)(2) of the Act is applicable. Thus, in accordance with section 736(a)(1) of the Act, Commerce will instruct U.S. Customs and Border Protection (CBP) to assess, upon further instruction from Commerce, antidumping duties equal to the amount by which the normal value of the merchandise exceeds the export price (or constructed export price) of the merchandise for all relevant entries of tungsten shot from China. Because the ITC's final injury determination is based on material retardation, antidumping duties will be assessed on entries of tungsten shot from China entered, or withdrawn from warehouse, for consumption on or after the date of publication of the ITC's final injury determination, in accordance with section 736(b)(2) of the Act. In addition, section 736(b)(2) of the Act requires CBP to refund any cash deposit made of estimated antidumping duties posted since Commerce's preliminary antidumping duty determination.

Accordingly, Commerce will direct CBP to terminate the suspension of liquidation of entries of tungsten shot from China entered, or withdrawn from warehouse, for consumption prior to the publication of the ITC final determination in the Federal Register. Commerce will also instruct CBP to refund any cash deposits made with respect to entries of tungsten shot from China entered, or withdrawn from warehouse, for consumption on or after February 19, 2025, the date of publication of the AD Preliminary Determination in the Federal Register.⁵

⁵ See Certain Tungsten Shot from the People's Republic of China: Preliminary Affirmative Determination of Sales at Less Than Fair Value and Postponement of Final Determination and Extension of Provisional Measures, 90 FR 9890 (February 19, 2025) (AD Preliminary Determination).

Suspension of Liquidation and Cash Deposits—AD

In accordance with section 735(c)(1)(B) of the Act, Commerce will instruct CBP to reinstitute the suspension of liquidation effective on the date of publication of the ITC's final injury determination in the Federal Register and to assess, upon further instruction from Commerce, pursuant to section 736(a)(1) of the Act, antidumping duties for each entry of the subject merchandise entered, or withdrawn from warehouse, for consumption equal to the amount by which the normal value of the merchandise exceeds the export price (or constructed export price) of the merchandise. These instructions suspending liquidation will remain in effect until further notice.

Commerce will also instruct CBP to require cash deposits for the subject merchandise equal to the estimated weighted-average dumping margin listed in the table below. Accordingly, effective on the date of publication of the ITC's final injury determination in the Federal Register, CBP shall require, at the same time as importers would normally deposit estimated duties on subject merchandise, a cash deposit equal to the rate listed below.⁶

⁶ See section 736(a)(3) of the Act.

Estimated Weighted-Average Dumping Margin

The estimated weighted-average antidumping duty margin is as follows:

Producer/exporter | Weighted-average dumping margin (percent)
China-wide Entity | * 201.32
*Rate based on facts available with adverse inferences.

CVD Order

As stated above, based on the ITC's final injury determination that an industry in the United States is materially retarded within the meaning of section 705(b)(1)(B) of the Act by reason of subsidized imports of tungsten shot from China,⁷ in accordance with section 705(c)(2) of the Act, Commerce is issuing this CVD order. According to section 706(b)(2) of the Act, countervailing duties shall be assessed on subject merchandise entered, or withdrawn from warehouse, for consumption on or after the date of publication of the ITC's final injury determination if that determination is based on material retardation. In addition, section 706(b)(2) of the Act requires CBP to refund any cash deposits of estimated countervailing duties posted before the date of publication of the ITC's final injury determination.

⁷ See ITC Notification Letter.

Accordingly, Commerce will direct CBP to terminate the suspension of liquidation of entries of tungsten shot from China entered, or withdrawn from warehouse, for consumption prior to the publication of the ITC final determination in the Federal Register. Commerce will also instruct CBP to refund any cash deposits made with respect to entries of tungsten shot from China entered, or withdrawn from warehouse, for consumption on or after December 20, 2024, the date of publication of the CVD Preliminary Determination in the Federal Register.⁸

⁸ See Certain Tungsten Shot from the People's Republic of China: Preliminary Affirmative Countervailing Duty Determination and Alignment of Final Determination With Final Antidumping Duty Determination, 90 FR 104083 (December 20, 2024) (CVD Preliminary Determination).

Suspension of Liquidation and Cash Deposits—CVD

In accordance with section 706 of the Act, Commerce intends to instruct CBP to reinstitute the suspension of liquidation of tungsten shot from China, effective on the date of publication of the ITC's notice of final determination in the Federal Register. These instructions suspending liquidation will remain in effect until further notice.

Commerce also intends, pursuant to section 706(a)(1) of the Act, to instruct CBP to require cash deposits equal to the amounts as indicated below. Accordingly, effective on the date of publication of the ITC's final injury determination in the Federal Register, CBP shall require, at the same time as importers would normal deposit estimated duties on subject merchandise, a cash deposit for each entry of subject merchandise equal to the subsidy rates listed in the table below. The all-others rate applies to all producers or exporters not specifically listed below, as appropriate.

Estimated Countervailable Subsidy Rates

The estimated CVD subsidy rates are as follows:

Company | Subsidy rate (percent ad valorem)
Luoyang Combat Tungsten & Molybdenum Materials Co., Ltd | * 292.84
Luoyang Hypersolid Metal Tech Co., Ltd | * 292.84
Mudanjiang North Alloy Tools Co., Ltd | * 292.84
Shaanxi Xinheng Rare Metal Co., Ltd | * 292.84
Xi'an Refractory & Precise Metals Co., Ltd | * 292.84
Zhuzhou KJ Super Materials Co., Ltd | * 55.64
Zhuzhou Oston Carbide Co., Ltd | * 292.84
Zhuzhou Tungsten Man Materials Co., Ltd | * 292.84
All Others | * 55.64
* Rate based on facts available with adverse inferences.

Establishment of the Annual Inquiry Service Lists

On September 20, 2021, Commerce published the Final Rule in the Federal Register.⁹ On September 27, 2021, Commerce also published the Procedural Guidance in the Federal Register.¹⁰ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹¹

⁹ See Regulations to Improve Administration and Enforcement of Antidumping and Countervailing Duty Laws, 86 FR 52300 (September 20, 2021) (Final Rule).

¹⁰ See Scope Ruling Application; Annual Inquiry Service List; and Informational Sessions, 86 FR 53205 (September 27, 2021) (Procedural Guidance).

¹¹ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹²

¹² This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹³ the new annual inquiry service list will be in place until the following year, when the Opportunity Notice for the anniversary month of the order is published.

¹³ See Procedural Guidance, 86 FR at 53206.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹⁴ Accordingly, as stated above, the petitioner and the Government of China should submit their initial entries of appearance after publication of this notice in order to appear in the first annual inquiry service lists for these orders. Pursuant to 19 CFR 351.225(n)(3), the petitioner and the Government of China will not need to resubmit their entries of appearance each year to continue to be included on the annual inquiry service list. However, the petitioner and the Government of China are responsible for making amendments to their entries of appearance during the annual update to the annual inquiry service list in accordance with the procedures described above.

¹⁴ See Final Rule, 86 FR at 52335.

Notification to Interested Parties

This notice constitutes the AD and CVD orders with respect to tungsten shot from China, pursuant to sections 706(a) and 736(a) of the Act. Interested parties can find a list of AD and CVD orders currently in effect at https://enforcement.trade.gov/stats/iastats1.html.

These AD and CVD orders are issued and published in accordance with sections 706(a) and 736(a) of the Act, and 19 CFR 351.211(b).

Dated: August 22, 2025.
/S/Abdelali Elouaradia
Abdelali Elouaradia,
Deputy Assistant Secretary for Enforcement and Compliance.

Appendix

Scope of the Orders

The merchandise covered by these orders is certain tungsten spheres or balls, also known as shot, that are 92.6 percent or greater tungsten by weight, not including the weight of any additional coating. In scope shot have a diameter ranging from 1.5 millimeters (mm) to 10.0 mm. Subject shot can be referred to as “Tungsten Super Shot.” Merchandise is covered regardless of the combination of compounds that comprise the non-tungsten material and whether or not the tungsten shot is additionally coated with another material, including but not limited to copper, nickel, iron, or metallic alloys. Tungsten shot subject to these orders may be classified under the following Harmonized Tariff Schedule of the United States (HTSUS) subheading: 9306.29.0000. Merchandise may also be entered under HTSUS subheading 8101.99.8000. The HTSUS subheadings are provided for convenience and customs purposes only. The written description of the scope of these orders is dispositive.

[FR Doc. 2025-16422 Filed 8-26-25; 8:45 am]

BILLING CODE 3510-DS-P